DEPARTMENT OF TRANSPORTATION

Federal Aviation Administration

14 CFR Part 39

[Docket No. FAA-2018-0806; Product Identifier 2018-NM-056-AD]

RIN 2120-AA64

Airworthiness Directives; Airbus SAS Airplanes

AGENCY: Federal Aviation Administration (FAA), DOT.

ACTION: Notice of proposed rulemaking (NPRM).

SUMMARY: We propose to supersede Airworthiness Directive (AD) 2015-12-08, which applies to all Airbus SAS Model A318 and A319 series airplanes and all Model A320-211, A320-212, A320-214, A320-231, A320-232, A320-233, A321-111, A321-112, A321-131, A321-211, A321-212, A321-213, A321-231, and A321-232 airplanes. AD 2015-12-08 requires an inspection to determine the batch number or installation date of the oxygen pipe assembly that is installed at the end of the right-hand crew distribution line, and replacement of the pipe if necessary. Since we issued AD 2015-12-08, further investigation determined that affected oxygen pipes may have been installed on more airplanes than initially identified. This proposed AD would revise the applicability to include additional airplane models and additional pipes to be replaced if necessary. We are proposing this AD to address the unsafe condition on these products.

DATES: We must receive comments on this proposed AD by November 19, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations,M-30, West Building Ground Floor, Room W12-140, 1200 New Jersey Avenue SE, Washington, DC 20590.

• Hand Delivery: Deliver to Mail address above between 9 a.m. and 5 p.m., Monday through Friday, except Federal holidays.

For service information identified in this NPRM, contact Airbus SAS, Airworthiness Office—EIAS, Rond-Point Emile Dewoitine No: 2, 31700 Blagnac Cedex, France; telephone +33 5 61 93 36 96; fax +33 5 61 93 44 51; email account.airworth-eas@airbus.com; internet http://www.airbus.com. You may view this referenced service information at the FAA, Transport Standards Branch, 2200 South 216th St., Des Moines, WA. For information on the availability of this material at the FAA, call 206-231-3195.

Examining the AD Docket

You may examine the AD docket on the internet at http://www.regulations.gov by searching for and locating Docket No. FAA-2018-0806; or in person at Docket Operations between 9 a.m. and 5 p.m., Monday through Friday, except Federal holidays. The AD docket contains this NPRM, the regulatory evaluation, any comments received, and other information. The street address for Docket Operations (phone 800-647-5527) is in the ADDRESSES section. Comments will be available in the AD docket shortly after receipt.

FOR FURTHER INFORMATION CONTACT: Sanjay Ralhan, Aerospace Engineer, International Section, Transport Standards Branch, FAA, 2200 South 216th St., Des Moines, WA 98198; telephone and fax 206-231-3223.

SUPPLEMENTARY INFORMATION:

Comments Invited

We invite you to send any written relevant data, views, or arguments about this proposal. Send your comments to an address listed under the ADDRESSES section. Include “Docket No. FAA-2018-0806; Product Identifier 2018-NM-056-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued AD 2015-12-08, Amendment 39-18182 (80 FR 34262, June 16, 2015) (“AD 2015-12-08”), for all Airbus SAS Model A318-111, A318-112, A318-121, A318-122, A319-111, A319-112, A319-113, A319-114, A319-115, A319-131, A319-132, A319-133, A320-211, A320-212, A320-214, A320-231, A320-232, A320-233, A321-111, A320-112, A320-131, A320-211, A320-212, A320-213, A320-231, and A320-232 airplanes. AD 2015-12-08 requires an inspection to determine the batch number or installation date of the oxygen pipe assembly that is installed at the end of the right-hand crew distribution line, and replacement of the pipe if necessary. AD 2015-12-08 resulted from a report of corrosion found during the manufacturing process for some oxygen pipe assemblies that are used to supply oxygen to the flight crew. We issued AD 2015-12-08 to address corrosion of the oxygen pipe assemblies, which could lead to blocked or reduced oxygen supply to a flight crew in case of decompression or smoke/fire in the flight deck. In addition, the presence of particles in oxygen lines, under certain conditions, increases the risk of fire in the flight deck.

Actions Since AD 2015-12-08 Was Issued

Since we issued AD 2015-12-08, we have determined that additional airplane models may be subject to the identified unsafe condition.

The European Aviation Safety Agency (EASA), which is the Technical Agent for the Member States of the European Union, has issued EASA AD 2018-0060R1, dated July 19, 2018 (referred to after this as the Mandatory Continuing Airworthiness Information, or “the MCAI”), to correct an unsafe condition for all Airbus SAS Model A318 and A319 series airplanes; all Model A320-211, A320-212, A320-214, A320-215, A320-216, A320-231, A320-232, A320-233, A321-111, A321-112, A321-131, A321-211, A321-212, A321-213, A321-231, and A321-232 airplanes; and certain Model A320-251N, A320-271N, and A321-271N airplanes. The MCAI states:

Some oxygen pipe assemblies were found corroded during manufacturing at supplier level. The affected pipe assembly was installed at the end of the right hand (RH) crew distribution line, just upstream of the First Officer and RH Observer oxygen mask boxes.

The investigation showed that the affected pipes had been heat treated just 4 weeks before the summer factory closure and were only cleaned after re-opening of the factory. During this interruption, corrosion developed in these pipes.

This condition, if not detected and corrected, could lead to blocked or reduced oxygen supply to a flight crew member in case of decompression or smoke/fire in the cockpit. In addition, the presence of particles in oxygen lines, under certain conditions, increases the risk of fire in the cockpit.

The parts manufacturer identified the batch numbers of the potentially affected pipes that were manufactured in a specific period in 2011. Based on that information, Airbus identified the aeroplanes on which those pipes were installed on the production line and issued SB A320-35-1069, containing instructions to remove the affected pipes from service.

Consequently, EASA issued AD 2013-0278 [which corresponds to FAA AD 2015-12-08, Amendment 39-18182 (80 FR 34262, June 16, 2015) (“AD 2015-12-08”)] to require the identification and replacement of the affected oxygen pipes. That [EASA] AD also prohibited installation of any affected pipe on other aeroplanes.

After EASA AD 2013-0278 was issued, further investigation determined that affected oxygen pipes may have been installed on more aeroplanes than initially identified. Consequently, Airbus revised SB A320-35-1069 and EASA issued AD 2017-0150, retaining the requirements of EASA AD 2013-0278, which was superseded, and requiring the same actions on these additional aeroplanes.

After EASA AD 2017-0150 was issued, it was determined that five A320 and A321 NEO aeroplanes had been delivered with a configuration which potentially allows the installation of an affected oxygen pipe.

Consequently, EASA issued AD 2018-0060, retaining the requirements of EASA AD 2017-0150, which was superseded, expanding the Applicability to include the five A320 and A321 NEO aeroplanes, and correcting the Table in Appendix 1 by removing MSN [manufacturer serial number] 5091 which belongs to Group 2.

Since that AD was issued, several operator requests were received to clarify the required actions for Group 3 and Group 4 aeroplanes. It was determined that, as per Airbus configuration control, the EASA AD No.: 2018-0060R1 affected parts have been identified as being potentially installed in production only on Group 1 and Group 2 aeroplanes. However, it is possible that those parts migrated to other aeroplanes during maintenance; for that reason, Group 3 and 4 aeroplanes need to be considered. This AD is revised accordingly.

You may examine the MCAI in the AD docket on the internet at http://www.regulations.gov by searching for and locating Docket No. FAA-2018-0806.

Model A320-216 Airplanes

The Airbus SAS Model A320-216 was type certificated on December 19, 2016. Before that date, any EASA AD that affected Model A320-216 airplanes was included on the Required Airworthiness Action List (RAAL). Model A320-216 airplanes have subsequently been placed on the U.S. Register, and will now be included in FAA AD actions. For Airbus SAS Model A320-216 airplanes, the requirements that correspond to AD 2015-12-08 were mandated by the MCAI via the RAAL. Although that RAAL requirement is still in effect, for continuity and clarity we have identified Airbus SAS Model A320-216 airplanes in paragraph (c) of this proposed AD; the restated requirements of paragraphs (g), (h), and (i) of this proposed AD would therefore apply to those airplanes.

Related Service Information Under 1 CFR Part 51

Airbus SAS has issued Service Bulletin A320-35-1069, Revision 3, dated December 8, 2017. The service information describes an inspection to determine the batch number or installation date of the oxygen pipe assembly that is installed at the end of the right hand crew distribution line, and replacement of the pipe. This service information is reasonably available because the interested parties have access to it through their normal course of business or by the means identified in the ADDRESSES section.

Explanation of Revised Service Information

AD 2015-10-08 required using Airbus Service Bulletin A320-35-1069, dated April 26, 2013, for an inspection to determine the batch number or installation date of the oxygen pipe assembly that is installed at the end of the right-hand crew distribution line, and replacement of the pipe if necessary. We have determined that Airbus Service Bulletin A320-35-1069, Revision 3, December 8, 2017, adds additional airplane models to the applicability, but adds no new actions.

FAA's Determination

This product has been approved by the aviation authority of another country, and is approved for operation in the United States. Pursuant to our bilateral agreement with the State of Design Authority, we have been notified of the unsafe condition described in the MCAI and service information referenced above. We are proposing this AD because we evaluated all the relevant information and determined the unsafe condition described previously is likely to exist or develop on other products of the same type design.

Proposed Requirements of This NPRM

This proposed AD would retain all requirements of AD 2015-12-08, and would revise the applicability to include additional airplane models and additional pipes to be replaced if necessary.

Costs of Compliance

We estimate that this proposed AD affects 50 airplanes of U.S. registry. We estimate the following costs to comply with this proposed AD:

Estimated Costs
Labor cost | Parts cost | Cost per product | Cost on U.S. operators
2 work-hours × $85 per hour = $170 | $0 | $170 | $8,500

We estimate the following costs to do any necessary replacements that would be required based on the results of the proposed inspection. We have no way of determining the number of aircraft that might need these replacements:

Estimated Costs of On-Condition Actions
Labor cost | Parts cost | Cost per product
5 work-hours × $85 per hour = $425 | $0 | $425

According to the manufacturer, some or all of the costs of this proposed AD may be covered under warranty, thereby reducing the cost impact on affected individuals. We do not control warranty coverage for affected individuals. As a result, we have included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-12-08, Amendment 39-18182 (80 FR 34262, June 16, 2015), and adding the following new AD:

Airbus SAS: Docket No. FAA-2018-0806; Product Identifier 2018-NM-056-AD.

(a) Comments Due Date

We must receive comments by November 19, 2018.

(b) Affected ADs

This AD replaces AD 2015-12-08, Amendment 39-18182 (80 FR 34262, June 16, 2015) (“AD 2015-12-08”).

(c) Applicability

This AD applies to the Airbus SAS airplanes identified in paragraphs (c)(1) through (c)(5) of this AD, certificated in any category.

(1) Model A318-111, -112, -121, and -122 airplanes, all manufacturer serial numbers.

(2) Model A319-111, -112, -113, -114, -115, -131, -132, and -133 airplanes, all manufacturer serial numbers.

(3) Model A320-211, -212, -214, -216, -231, -232, and -233 airplanes, all manufacturer serial numbers.

(4) Model A321-111, -112, -131, -211, -212, -213, -231, and -232 airplanes, all manufacturer serial numbers.

(5) Model A320-251N, A320-271N, and A321-271N airplanes, manufacturer serial numbers 6101, 6286, 6419, 6642, and 6673.

(d) Subject

Air Transport Association (ATA) of America Code 35, Oxygen.

(e) Reason

This AD was prompted by a report of corrosion found during the manufacturing process for some oxygen pipe assemblies that are used to supply oxygen to the flight crew. We are issuing this AD to address corrosion of the oxygen pipe assemblies, which could lead to blocked or reduced oxygen supply to a flight crew in case of decompression or smoke/fire in the flight deck. In addition, the presence of particles in oxygen lines, under certain conditions, increases the risk of fire in the flight deck.

(f) Compliance

Comply with this AD within the compliance times specified, unless already done.

(g) Retained Inspection for Batch Numbers and Replacement, With New Service Information

This paragraph restates the requirements of paragraph (g) of AD 2015-12-08, with new service information. For airplanes identified in paragraph 1.A. of Airbus Service Bulletin A320-35-1069, dated April 26, 2013: Within 7,500 flight hours or 26 months, whichever occurs first after July 21, 2015 (the effective date of AD 2015-12-08), inspect the crew oxygen pipe, having part number (P/N) D3511032000640, to determine the batch number of that pipe, in accordance with the Accomplishment Instructions of Airbus Service Bulletin A320-35-1069, dated April 26, 2013; or Airbus Service Bulletin A320-35-1069, Revision 03, dated December 8, 2017. A review of airplane maintenance records is acceptable in lieu of this inspection if the batch number of the pipe can be conclusively determined from that review. If the batch number of the oxygen pipe is 19356252, 40008586, 40076689, 40187414, 40292749, 40405164, 40649383, 40724994, 40820410, or 40911832: Within 7,500 flight hours or 26 months, whichever occurs first after July 21, 2015, replace the oxygen pipe with a serviceable part, in accordance with the Accomplishment Instructions of Airbus Service Bulletin A320-35-1069, dated April 26, 2013; or Airbus Service Bulletin A320-35-1069, Revision 03, dated December 8, 2017. After the effective date of this AD, only Airbus Service Bulletin A320-35-1069, Revision 3, dated December 8, 2017, may be used to do the actions required by this paragraph.

(h) Retained Inspection for Part Number and Installation Date of Crew Oxygen Pipe, With No Changes

This paragraph restates the requirements of paragraph (h) of AD 2015-12-08, with no changes. For airplanes identified in paragraphs (c)(1) through (c)(4) of this AD that are not identified in paragraph 1.A. of Airbus Service Bulletin A320-35-1069, dated April 26, 2013: Within 7,500 flight hours or 26 months, whichever occurs first after July 21, 2015 (the effective date of AD 2015-12-08), inspect the crew oxygen pipe to determine whether P/N D3511032000640 was installed after June 2011. A review of airplane maintenance records is acceptable in lieu of this inspection if the part number and installation date of the pipe can be conclusively determined from that review. If the pipe was installed after June 2011, or the date cannot be conclusively determined, before further flight, do the actions required in paragraph (g) of this AD.

(i) Retained Parts Installation Prohibition, With No Changes

This paragraph restates the requirements of paragraph (i) of AD 2015-12-08, with no changes. For airplanes identified in paragraphs (c)(1) through (c)(4) of this AD, except for Model A320-216 airplanes: As of July 21, 2015 (the effective date of AD 2015-12-08), do not install, on any airplane, a crew oxygen pipe P/N D3511032000640, that is identified as belonging to batch number 19356252, 40008586, 40076689, 40187414, 40292749, 40405164, 40649383, 40724994, 40820410, or 40911832.

(j) New Requirement of This AD: Inspection for Batch Numbers and Replacement for Certain Airplanes

For airplanes identified in paragraph (c)(5) of this AD and for Model A320-216 airplanes: Within 7,500 flight hours or 26 months, whichever occurs first after the effective date of this AD, inspect the crew oxygen pipe, having P/N D3511032000640, to determine the batch number of that pipe, in accordance with the Accomplishment Instructions of Airbus Service Bulletin A320-35-1069, Revision 03, dated December 8, 2017. A review of airplane maintenance records is acceptable in lieu of this inspection if the batch number of the pipe can be conclusively determined from that review. If the batch number of the oxygen pipe is 19356252, 40008586, 40076689, 40187414, 40292749, 40405164, 40649383, 40724994, 40820410, or 40911832: Within 7,500 flight hours or 26 months, whichever occurs first after the effective date of this AD, replace the oxygen pipe with a serviceable part, in accordance with the Accomplishment Instructions of Airbus Service Bulletin A320-35-1069, Revision 03, dated December 8, 2017.

(k) New Parts Installation Prohibition for Certain Airplanes

For airplanes identified in paragraph (c)(5) of this AD and for Model A320-216 airplanes: As of the effective date of this AD, do not install, on any airplane, a crew oxygen pipe P/N D3511032000640, that is identified as belonging to batch number 19356252, 40008586, 40076689, 40187414, 40292749, 40405164, 40649383, 40724994, 40820410, or 40911832.

(l) Credit for Previous Actions

(1) For the airplanes identified in paragraph (g) of this AD: This paragraph provides credit for actions required by paragraph (g) of this AD, if those actions were performed before July 21, 2015 (the effective date of AD 2015-12-08) using a service bulletin identified in paragraph (l)(1)(i) or (l)(1)(ii) of this AD.

(i) Airbus Service Bulletin A320-35-1069, Revision 01, dated March 24, 2014.

(ii) Airbus Service Bulletin A320-35-1069, Revision 02, dated October 26, 2016.

(2) For airplanes identified in paragraph (j) of this AD: This paragraph provides credit for actions required by paragraph (j) of this AD, if those actions were performed before the effective date of this AD using a service bulletin identified in paragraph (l)(2)(i), (l)(2)(ii), or (l)(2)(iii) of this AD.

(i) Airbus Service Bulletin A320-35-1069, dated April 26, 2013.

(ii) Airbus Service Bulletin A320-35-1069, Revision 01, dated March 24, 2014.

(iii) Airbus Service Bulletin A320-35-1069, Revision 02, dated October 26, 2016.

(m) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (n)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(n) Related Information

(1) Refer to Mandatory Continuing Airworthiness Information (MCAI) EASA AD 2018-0060R1, dated July 19, 2018, for related information. This MCAI may be found in the AD docket on the internet at http://www.regulations.gov by searching for and locating Docket No. FAA-2018-0806.

(2) For more information about this AD, contact Sanjay Ralhan, Aerospace Engineer, International Section, Transport Standards Branch, FAA, 2200 South 216th St., Des Moines, WA 98198; telephone and fax 206-231-3223.

(3) For service information identified in this AD, contact Airbus SAS, Airworthiness Office—EAL, Rond-Point Emile Dewoitine No: 2, 31700 Blagnac Cedex, France; phone: +33 5 61 93 36 96; fax: +33 5 61 93 45 80; email: airworthiness.A330-A340@airbus.com; internet: http://www.airbus.com. You may view this service information at the FAA, Transport Standards Branch, 2200 South 216th St., Des Moines, WA. For information on the availability of this material at the FAA, call 206-231-3195.

Issued in Des Moines, Washington, on September 23, 2018.
John P. Piccola,
Acting Director, System Oversight Division, Aircraft Certification Service.

[FR Doc. 2018-21455 Filed 10-3-18; 8:45 am]

BILLING CODE 4910-13-P